DEPARTMENT OF HOUSING AND URBAN DEVELOPMENT

[Docket No. FR-5450-N-02]

Federal Housing Administration (FHA): Notice of FHA PowerSaver Home Energy Retrofit Loan Pilot Program: Extension of Period Soliciting Expressions of Interest

AGENCY: Office of the Assistant Secretary for Housing-Federal Housing Commissioner, HUD.

ACTION: Notice.

SUMMARY: On November 10, 2010, HUD published a notice that announced its proposal to conduct an FHA Home Energy Retrofit Loan Pilot Program (Retrofit Pilot Program or Pilot Program) known as FHA PowerSaver. The Consolidated Appropriations Act, 2010 directs HUD to conduct an Energy Efficient Mortgage Innovation pilot program targeted to the single family housing market, and the Retrofit Pilot Program is designed by HUD to meet this statutory directive and provides funding to support that effort. The November 10, 2010, notice solicited public comment and invited lenders interested in participating in the Pilot Program to submit Expressions of Interest. The deadline for both the submission of public comments and expressions of interest from lenders is December 27, 2010.

This notice extends the date for submission of Expressions of Interest to January 31, 2011. The public comment deadline, however, remains December 27, 2010.

DATES: Due Date for Expressions of Interest: January 31, 2011.

ADDRESSES: As provided in the November 10, 2010, notice, lenders interested in participating in this Pilot Program must email their Expressions of Interest to FHAPowerSaver@hud.gov in accordance with Appendix A of the November 10, 2010, notice.

FOR FURTHER INFORMATION CONTACT: Patricia McBarron, Office of Single Family Housing Development, Office of Housing, Department of Housing and Urban Development, 451 7th Street, SW., Washington, DC 20410-8000; telephone number 202-708-2121 (this is not a toll-free number). Persons with hearing or speech impairments may access this number through TTY by calling the toll-free Federal Information Relay Service at 800-877-8339.

SUPPLEMENTARY INFORMATION: HUD published a notice in the Federal Register on November 10, 2010 (75 FR 69112) that announced its proposal to conduct an FHA Home Energy Retrofit Loan Pilot Program (Retrofit Pilot Program or Pilot Program) known as FHA PowerSaver. The Consolidated Appropriations Act, 2010 (Pub. L. 111-117, approved December 16, 2009, 123 Stat. 3034) (2010 Appropriations Act), which appropriated Fiscal Year (FY) 2010 funds for HUD, among other agencies, appropriated $50 million for an Energy Innovation Fund to enable HUD to catalyze innovations in the residential energy efficiency sector that have the promise of replicability and help create a standardized home energy efficient retrofit market. Of the $50 million appropriated for the Energy Innovation Fund, the 2010 Appropriations Act stated that “$25,000,000 shall be for the Energy Efficient Mortgage Innovation pilot program directed at the single family housing market.” (See Pub. L. 111-117, at 123 Stat. 3089.)

Under the Retrofit Pilot Program, HUD, through FHA-approved lenders, will insure loans for homeowners who are seeking to make energy improvements to their homes. As provided in the November 10, 2010, notice, HUD intends to select a limited number of lenders to participate in the Retrofit Pilot Program. The Pilot Program will be for loans originated during a 2-year period, will be restricted to lenders approved by HUD to participate in the Pilot Program, and will be conducted in geographic areas identified by HUD as optimum locations to conduct the Pilot Program. In making these determinations, HUD will consider the factors and criteria proposed in the November 10, 2010, notice to establish the framework for the Pilot Program, and the public comments received in response to HUD's solicitation of comment. In addition to seeking comments on the proposed Pilot Program, HUD invited lenders interested in participating in this Pilot Program to notify HUD of such interest as provided in Appendix A to the November 10, 2010, notice.

This notice extends the period in which lenders may submit expressions of interest to January 31, 2010. HUD, however, is not extending the public comment deadline. In order to be in a position to make final determinations on the framework of the Pilot Program, it is important for the public comment deadline to come to an end so that HUD can commence the review of comments and consideration of issues and suggestions raised.

Dated: December 10, 2010.
David H. Stevens,
Assistant Secretary for Housing-Federal Housing Commissioner.

[FR Doc. 2010-31507 Filed 12-15-10; 8:45 am]

BILLING CODE 4210-67-P